DEPARTMENT OF LABOR

Employment and Training Administration

[TA-W-65,713]

Peterson Manufacturing Company, Grandview, MO; Notice of Termination of Investigation

Pursuant to Section 221 of the Trade Act of 1974, as amended, an investigation was initiated on March 31, 2009 in response to a petition filed by a company official on behalf of workers of Peterson Manufacturing Company, Grandview, Missouri.

The petitioner has requested that the petition be withdrawn. Therefore, the investigation under this petition has been terminated.

Signed at Washington, DC, this 27th day of April, 2009.
Linda G. Poole,
Certifying Officer, Division of Trade Adjustment Assistance.

[FR Doc. E9-11868 Filed 5-20-09; 8:45 am]

BILLING CODE 4510-FN-P